DEPARTMENT OF AGRICULTURE

Forest Service

Kootenai National Forest; Lincoln and Sanders Counties; Montana; Kootenai National Forest Young Growth Environmental Impact Statement

AGENCY: Forest Service, USDA.

ACTION: Notice of intent to prepare an environmental impact statement.

SUMMARY: The Forest Service will prepare an Environmental Impact Statement (EIS) to disclose the environmental effects of commercial and non-commercial vegetation management activities and prescribed burning of activity fuels. Access management changes and other design features are included to protect resources and facilitate management activities. The project is located across the Kootenai National Forest Kootenai National Forest, Lincoln and Sanders Counties, Montana.

DATES: Comments concerning the scope of the analysis must be received within 30 days from the date of publication in the Federal Register.

ADDRESSES: Send written comments to Chris Savage; Forest Supervisor, Kootenai National Forest, 31374 US Hwy 2, Libby, MT 59923. Comments may also be sent via email to comments-northern-kootenai@fs.fed.us; or via facsimile to (406) 283-7709.

FOR FURTHER INFORMATION CONTACT: Contact Janis Bouma, Project Team Leader, Kootenai National Forest, 31374 US Hwy 2, Libby, MT 59923. Phone: (406) 283-7774.

Individuals who use telecommunication devices for the deaf (TDD) may call the Federal Information Relay Service (FIRS) at 1-800-877-8339 between 8 a.m. and 8 p.m., Eastern Time, Monday through Friday.

SUPPLEMENTARY INFORMATION: On May 20, 2014, Department of Agriculture Secretary Vilsack announced the designation of approximately 45.6 million acres of National Forest System lands across 94 national forests in 35 states to address insect and disease threats that weaken forests and increase the risk of forest fire. The Kootenai National Forest is the only forest in Montana that lies completely within these priority landscapes. The Governor of Montana has asked that priority be given to project development within these designated insect and disease areas, and created his Forest in Focus Initiative to accelerate the pace and scale of forest restoration in the state of Montana. The Kootenai National Forest Young-Growth Project area is approximately 400,000 acres in size and is located only in second-growth; previously harvested timber stands about across the Kootenai National Forest.

Purpose and Need for Action

The purpose and need for this project is: (1) Improve the resiliency of the timber stands to insects and disease; (2); improve wildlife habitat especially for grizzly bear and lynx; (3) address impacts from climate change and, 4) and to decrease risk of stand-replacing wildfire.

Overall project benefits and the purpose associated with young-growth vegetation management will be to improve stand conditions and increase resistance to insects, disease, and stand-replacement wildfire while also providing for abundance of forage and improved habitat conditions for a variety of wildlife species. Managing these stands is important in order to reach a healthier stocking rate and to increase overall growth and vigor of the stand by reducing competition and stress on remaining conifers. Management of these stands would also increase quantities of grasses, forbs, and shrubs that many wildlife species utilize in the early stage of forest development, thereby improving foraging habitat for grizzly bear, lynx, and other wildlife species. The project would allow for adaptive management over the next 10 to 15 years as stand conditions would allow and to respond to local environmental conditions and stocking rates. All of these benefits fall within the Governor's criteria.

Proposed Action

The proposed action includes non-commercial and commercial vegetation management activities that accomplish the following:

Habitat improvement for grizzly bear and lynx; (2) Reduce fuel loading and ladder fuels; (3) Break up the continuity of fuels; (4) Reduce tree densities and tree species susceptible to fire mortality; (5) Increase fire resilient species; (6) Reduce susceptibility to insects and potential disease; (7) Increase tree vigor and resilience to disturbance.

Project NEPA analysis would employ various adaptive management screens across the initial proposed acreage. These “screens” would be used to avoid impacts to Threatened and Endangered wildlife and plant species, and sensitive areas. Treatment boundaries could also be further narrowed depending on localized site conditions including soils conditions, standard wildlife effects mitigations, and Best Management Practices (BMPs). Therefore, the actual, on-the ground vegetation management would be considerably smaller than the initial 400,000 acres proposed for evaluation. The project would rely on the existing road system to reach the stands with a need for treatment, with no new specified road construction proposed for this analysis. Prior logging systems such as previous skid trails may be used if evidence of them still exists. If site-specific Forest Plan amendments may be needed, then the proposed treatments would be dropped or deferred to another future project analysis.

The acres included in this anticipated decision would provide forest products for an array of markets. A portion of the acreage, predominately the older second growth, would provide a saw log product. Many of the acres would provide non-saw products such as post and pole. These offerings of forest products would be assessed for economic feasibility and may be mixed and matched with other offerings or decisions in order to ensure economic viability. Additionally, in order to anticipate and respond to future timber market opportunities or newly developed markets, the analysis would consider biomass removal in addition to traditional commercial timber harvest activities.

Various silvicultural treatments would be proposed to meet the vegetative objectives for the previously harvested areas and move the landscape towards the desired ranges. Often two or more treatments, for example commercial harvest followed by non-commercial thinning may be prescribed for the same unit. Pre-commercial thinning would occur either following a commercial entry or as the only treatment. Trees cut during this activity may be removed as biomass (if future market opportunities develop) or left on site and the slash treated by a variety of fuels treatments.

Possible Alternatives

The Forest Service will consider a range of alternatives. One of these will be the “no action” alternative in which none of the proposed action would be implemented. Additional alternatives may be included in response to issues raised by the public during the scoping process or due to additional concerns for resource values identified by the Interdisciplinary Team.

Responsible Official

The Forest Supervisor of the Kootenai National Forest, 31374 US Highway 2, Libby, MT 59923-3022, is the Responsible Official. As the Responsible Official, I will decide if the proposed action will be implemented. I will document the decision and rationale for the decision in the Record of Decision.

Nature of Decision To Be Made

Based on the purpose and need, the Responsible Official reviews the proposed action, the other alternatives, the environmental consequences, and public comments on the analysis in order to make the following decision:

(1) Whether the proposed action will proceed as proposed, as modified by an alternative, or not at all?

(2) Whether to implement timber harvest and associated fuels treatments, and prescribed burning, including the design features and potential mitigation measures to protect resources; and if so, how much and at what specific locations;

(3) What, if any, specific project monitoring requirements are needed to assure design features and potential mitigation measures are implemented and effective, and to evaluate the success of the project objectives. A project specific monitoring plan will be developed.

Preliminary Issues

Initial analysis by the Interdisciplinary Team has brought forward seven issues that may affect the design of the project: (1) Susceptibility to severe wildfire; (2) Effect on wildlife habitat, especially lynx, grizzly bear, and bull trout; (3) Effect on big game winter range; (4) Economic viability of commercial treatments; (5) Cost of non-commercial treatments; (6) Effects on water quality and aquatic habitats; and (7) Effects on weed introduction and spread.

Scoping Process

This notice of intent initiates the scoping process, which guides the development of the environmental impact statement. The Interdisciplinary Team will continue to seek information, comments, and assistance from Federal, State, and local agencies, Tribal governments, and other individuals or organizations that may be interested in, or affected by, the proposed action. The overall development of the project would also be done through a collaborative process with interested parties, including the Kootenai Forest Stakeholders Coalition, Lincoln County, Sanders County, and timber industry.

It is important that reviewers provide their comments at such times and in such manner that they are useful to the agency's preparation of the environmental impact statement. Therefore, comments should be provided prior to the close of the comment period and should clearly articulate the reviewer's concerns and contentions.

Comments received in response to this solicitation, including names and addresses of those who comment, will become part of the public record for this proposed action. Comments submitted anonymously will be accepted and considered.

Dated: July 10, 2015.
Chris S. Savage,
Forest Supervisor, Kootenai National Forest .

[FR Doc. 2015-17770 Filed 7-20-15; 8:45 am]

BILLING CODE 3411-15-P